NUCLEAR REGULATORY COMMISSION

[NRC-2008-0339]

Extension of Public Comment Period on the Draft Environmental Impact Statement for the Nichols Ranch In-Situ Recovery Project in Campbell and Johnson Counties, WY; Supplement to the Generic Environmental Impact Statement for In-Situ Leach Uranium Milling Facilities

AGENCY: Nuclear Regulatory Commission (NRC).

ACTION: Extension of Public Comment Period.

SUMMARY: This notice revises a notice published on Friday, December 11, 2009, in the Federal Register (74 FR 65808), which announced, in part, that the public comment period for the NRC's Draft Supplemental Environmental Impact Statement (Draft SEIS) for the Nichols Ranch In-Situ Recovery (ISR) Project closes on February 1, 2010. The purpose of this notice is to extend the public comment period on the Draft SEIS for the Nichols Ranch ISR Project to March 3, 2010.

DATES: Members of the public have been submitting written comments on the Draft SEIS for the Nichols Ranch ISR Project since the initial notice of availability was published on December 11, 2009 (74 FR 65808). In response to multiple requests received in writing, the comment period on the Draft SEIS is being extended to March 3, 2010. The NRC will consider comments received or postmarked after that date to the extent practical. Written comments should be submitted as described in the ADDRESSES section of this notice.

ADDRESSES: You may submit comments by any one of the following methods. Please include Docket ID NRC-2008-0339 in the subject line of your comments. Comments submitted in writing or in electronic form will be posted on the NRC Web site and on the Federal rulemaking Web site http://www.regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed.

Federal Rulemaking Web site: Go to http://www.regulations.gov and search for documents filed under Docket ID NRC-2008-0339. Comments may be submitted electronically through this Web site. Address questions about NRC dockets to Carol Gallagher at 301-492-3668, or e-mail at Carol.Gallagher@nrc.gov.

Mail comments to: Michael T. Lesar, Chief, Rulemaking and Directives Branch (RDB), Division of Administrative Services, Office of Administration, Mail Stop: TWB-05-B01M, U.S. Nuclear Regulatory Commission, Washington, DC 20555-0001, or by fax to RDB at (301) 492-3446. You may also send comments electronically to NicholsRanchISRSEIS@nrc.gov.

FOR FURTHER INFORMATION CONTACT: For general information on the NRC's NEPA process, or the environmental review process related to the Draft SEIS, please contact Irene Yu, Project Manager, Environmental Review Branch, Division of Waste Management and Environmental Protection (DWMEP), Mail Stop T-8F5, U.S. Nuclear Regulatory Commission, Washington, DC, 20555-001, by phone at 1 (800) 368-5642, extension 1951. For general or technical information associated with the safety and licensing of uranium milling facilities, please contact Stephen Cohen, Team Lead, Uranium Recovery Branch, DWMEP, Mail Stop T-8F5, U.S. Nuclear Regulatory Commission, Washington, DC 20555-0001, by phone at 1 (800) 368-5642, extension 7182.

SUPPLEMENTARY INFORMATION:

I. Introduction

As stated previously, in response to several requests during the public comment period, the NRC is extending the Draft SEIS comment period close date from February 1, 2010, to March 3, 2010. The comment period extension is in response to public comments indicating (1) the original comment period for the Draft SEIS included multiple Federal holidays, and (2) the Draft SEIS for the Nichols Ranch ISR Project was published concurrently with two additional NRC Draft SEISs (the Lost Creek ISR Project in Sweetwater County, Wyoming, and the Moore Ranch ISR Project in Campbell County, Wyoming).

Following the end of the public comment period, the NRC staff will publish a Final SEIS for the Nichols Ranch ISR Project that addresses, as appropriate, the public comments on the Draft SEIS.

II. Further Information

Publicly available documents related to this notice can be accessed using the following methods:

NRC's Public Document Room (PDR): The public may examine and have copied, for a fee, publicly available documents at the NRC's PDR, Public File Area O1 F21, One White Flint North, 11555 Rockville Pike, Rockville, Maryland.

NRC's Agencywide Documents Access and Management System (ADAMS): Publicly available documents created or received at the NRC are available electronically at the NRC's Electronic Reading Room at http://www.nrc.gov/reading-rm/adams.html. From this page, the public can gain entry into ADAMS, which provides text and image files of NRC's public documents. If you do not have access to ADAMS or if there are problems in accessing the documents located in ADAMS, contact the NRC's PDR reference staff at 1-800-397-4209, 301-415-4737, or by e-mail to Pdr.Resource@nrc.gov. The “Environmental Impact Statement for the Nichols Ranch ISR Project in Campbell and Johnson Counties, Wyoming—Supplement to the Generic Environmental Impact Statement for In-Situ Leach Uranium Milling Facilities” is available electronically under ADAMS Accession Number ML093340536.

The Draft SEIS for the Nichols Ranch ISR Project also may be accessed on the internet at http://www.nrc.gov/reading-rm/doc-collections/nuregs/staff/ by selecting “NUREG-1910.” The Draft SEIS will be Supplement 2 to NUREG-1910. To facilitate review, links to NEPA documents developed by other Federal agencies that were referenced in the Draft SEIS will be provided at the aforementioned internet address. Additionally, a copy of the Draft SEIS will be available at the following public libraries:

Campbell County Public Library, 2101 South 4J Road, Gillette, Wyoming 82718, 307-687-0009.

Johnson County Library, 171 North Adams Avenue, Buffalo, Wyoming 82834, 307-684-5546.

Dated at Rockville, Maryland, this 1st day of February, 2010.
For the Nuclear Regulatory Commission.
Patrice M. Bubar,
Deputy Director, Environmental Protection and Performance Assessment Directorate, Division of Waste Management and Environmental Protection, Office of Federal and State Materials and Environmental Management Programs.

[FR Doc. 2010-2529 Filed 2-4-10; 8:45 am]

BILLING CODE 7590-01-P